DEPARTMENT OF JUSTICE

Office of Justice Programs

[OJP(OJJDP)-1401]

Office of Juvenile Justice and Delinquency Prevention: Meeting of the Coalition of Juvenile Justice

AGENCY: Office of Justice Programs, Office of Juvenile Justice and Delinquency Prevention, Justice.

ACTION: Notice of meeting.

SUMMARY: The Office of Juvenile Justice and Delinquency Prevention is announcing the meeting of the Coalition for Juvenile Justice. The purpose of this meeting is to discuss and adopt recommendations from members regarding the committee's responsibility to advise the OJJDP Administrator, the President, and the Congress about state perspectives on the operation of OJJDP and Federal legislation pertaining to juvenile justice and delinquency prevention.

DATES: The meeting dates are:

1. Thursday, April 18, 2002, 10 a.m. to 6 p.m. (ET).

2. Friday, April 19, 2002, 8 a.m. to 5 p.m. (ET).

3. Saturday, April 20, 2002, 8 a.m. to 5 p.m. (ET)

4. Sunday, April 21, 2002, 8 a.m. to 5 p.m. (ET).

ADDRESSES: All meetings will be held at the Wyndham Hotel, 1400 M Street NW., Washington, DC 20005; Telephone: 202-429-1700; Fax: 202-728-0530.

FOR FURTHER INFORMATION CONTACT: For information about how to attend this meeting (or to submit written questions (optional)), contact Freida Thomas, 810 7th Street, NW., Washington, DC 20531; Telephone: 202-307-5924 [This is not a toll-free number]; Fax: 202-307-2819; E-mail: Freida@ojp.usdoj.gov.

SUPPLEMENTARY INFORMATION: The Coalition of Juvenile Justice, established pursuant to section 9 of the Federal Advisory Committee Act, (5 U.S.C. App. II), is meeting to carry out its advisory functions under section 5601 of the Juvenile Justice and Delinquency Prevention Act of 1974, 42 U.S.C., as amended.

This meeting will be open to the public.

Dated: March 14, 2002.
Terrence S. Donahue,
Acting Administrator, Office of Juvenile Justice and Delinquency Prevention.

[FR Doc. 02-6638 Filed 3-19-02; 8:45 am]

BILLING CODE 4410-18-P